SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes one extension and revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA, Fax: 202-395-6974, Email address: OIRA_Submission@omb.eop.gov.

(SSA) Social Security Administration, DCRDP, Attn: Reports Clearance Director, 107 Altmeyer Building, 6401 Security Blvd., Baltimore, MD 21235, Fax: 410-966-2830, Email address: OR.Reports.Clearance@ssa.gov.

I. The information collections below are pending at SSA. SSA will submit them to OMB within 60 days from the date of this notice. To be sure we consider your comments, we must receive them no later than November 4, 2013. Individuals can obtain copies of the collection instruments by writing to the above email address.

1. Continuing Disability Review Report—20 CFR 404.1589, 416.989 —0960-0072. Sections 221(i), 1614(a)(3)(H)(ii)(I), and 1633(c)(1) of the Social Security Act (Act) require SSA to periodically review the cases of individuals who receive disability benefits under title II or title XVI to determine if the individuals' disabilities continue. SSA uses Form SSA-454, Continuing Disability Review Report, to complete the review for continuing disability. SSA considers adults eligible for payment if they continue to be unable to do substantial gainful activity because of their impairments, and we consider title XVI children eligible for payment if they have marked and severe functional limitations because of their impairments. SSA also uses Form SSA-454 to obtain information on sources of medical treatment; participation in vocational rehabilitation programs (if any); attempts to work (if any); and if individuals believe their conditions have improved. The respondents are title II or title XVI disability recipients or their representatives.

Type of Request: Revision of an OMB-approved information collection.

Modality of completion | Number of respondents | Frequency of response | Average burden per response (minutes) | Estimated total annual burden (hours)
SSA-454-BK (Paper version) | 270,500 | 1 | 60 | 270,500
Electronic Disability Collect System | 270,500 | 1 | 60 | 270,500
Totals | 541,000 |  | 541,000 | 498,892

2. Appointment of Representative—20 CFR 404.1707, 404.1720, 404.1725, 410.684 and 416.1507—0960-0527. Persons claiming rights or benefits under the Act must notify SSA in writing when they appoint an individual to represent them in their dealings with SSA. SSA collects the information on Form SSA-1696-U4 to verify the appointment of such representatives. The SSA-1696-U4 allows SSA to inform representatives of items that affect the recipient's claim, and allows claimants to give permission to their appointed representatives to designate a person to receive their claims files. Respondents are applicants for or recipients of Social Security benefits or Supplemental Security Income payments who are notifying SSA they have appointed a person to represent them in their dealings with SSA.

Type of Request: Revision of an OMB-approved information collection.

Modality of collection | Number of respondents | Frequency of response | Average burden per response (minutes) | Estimated total annual burden (hours)
SSA-1696-U4 | 800,000 | 1 | 10 | 133,333

II. SSA submitted the information collections below to OMB for clearance. Your comments regarding the information collections would be most useful if OMB and SSA receive them 30 days from the date of this publication. To be sure we consider your comments, we must receive them no later than October 3, 2013. Individuals can obtain copies of the OMB clearance packages by writing to OR.Reports.Clearance@ssa.gov.

1. Travel Expense Reimbursement—20 CFR 404.999(d) and 416.1499—0960-0434. The Act stipulates that Federal and State agencies reimburse travel expenses for claimants, their representatives, and all necessary witnesses for travel exceeding 75 miles to attend medical examinations, reconsideration interviews, and proceedings before an administrative law judge. Reimbursement procedures require the claimant to provide (1) a list of expenses incurred and (2) receipts of such expenses. Federal and State personnel review the listings and receipts to verify the amount reimbursable to the requestor. The respondents are claimants for title II benefits and title XVI payments, their representatives and witnesses.

Type of Request: Extension of an OMB-approved information collection.

Estimated Annualized Burden Table
Modality of completion | Number of respondents | Frequency of response | Average burden per response (minutes) | Estimated annual burden (hours)
404.999(d) & 416.1499 | 60,000 | 1 | 10 | 10,000

2. Request for Accommodation in Communication Method—0960-0777. SSA allows blind or visually impaired Social Security applicants, beneficiaries, recipients, and representative payees to choose one of seven alternative methods of communication they want SSA to use when we send them benefit notices and other related communications. The seven alternative methods we offer are: (1) Standard print notice by first-class mail; (2) standard print mail with a follow-up telephone call; (3) certified mail; (4) Braille; (5) Microsoft Word file on data CD; (6) large print (18-point font); or (7) audio CD. However, respondents who want to receive notices from SSA through a communication method other than the seven methods listed above must explain their request to us. Those respondents use Form SSA-9000 to: (1) Describe the type of accommodation they want, (2) disclose their condition necessitating the need for a different type of accommodation, and (3) explain why none of the seven methods described above are sufficient for their needs. SSA uses Form SSA-9000 to determine, based on applicable law and regulation, whether to grant the respondents' requests for an accommodation based on their blindness, or other visual impairment. SSA collects this information electronically through either an in-person interview or a telephone interview during which the SSA employee keys in the information on Intranet screens. The respondents are blind or visually impaired Social Security applicants, beneficiaries, recipients, and representative payees who ask SSA to send notices and other communications in an alternative method besides the seven modalities we currently offer.

Type of Request: Revision of an OMB-approved information collection.

Estimated Annualized Burden Table
Modality of completion | Number of respondents | Frequency of response | Average burden per response (minutes) | Estimated total annual burden (hours)
SSA-9000 | 1,417 | 1 | 20 | 472

Dated: August 28, 2013.
Faye Lipsky,
Reports Clearance Director, Social Security Administration.

[FR Doc. 2013-21315 Filed 8-30-13; 8:45 am]

BILLING CODE 4191-02-P